DEPARTMENT OF AGRICULTURE

Food and Nutrition Service

7 CFR Part 272

[FNS-2009-0024]

RIN 0584-AD91

Supplemental Nutrition Assistance Program: Privacy Protections of Information From Applicant Households

AGENCY: Food and Nutrition Service, USDA.

ACTION: Affirmation of interim rule as final rule.

SUMMARY: The Food and Nutrition Service (FNS) is issuing this affirmation of a final rule, without change, of an interim rule that amended Supplemental Nutrition Assistance Program (SNAP) regulations at § 272.1, to permit SNAP State agencies to share information with local educational agencies (LEAs) administering the National School Lunch Program established under the Richard B. Russell National School Lunch Act or the School Breakfast Program established under the Child Nutrition Act of 1966, in order to directly certify the eligibility of school-age children for receipt of free school lunches and breakfasts based on their receipt of SNAP benefits.

DATES: Effective August 2, 2013, the Department is adopting as a final rule the interim rule published at 76 FR 28165, dated May 16, 2011.

FOR FURTHER INFORMATION CONTACT: Jane Duffield, Chief, State Administration Branch, Supplemental Nutrition Assistance Program, Food and Nutrition Service, U.S. Department of Agriculture, 3101 Park Center Drive, Room 818, Alexandria, VA 22302, (703) 605-4385, or Jane.Duffield@fns.usda.gov.

SUPPLEMENTARY INFORMATION:

Background

On May 16, 2011, the Department published an interim rule implementing a nondiscretionary privacy protection provision of section 4120 of Public Law 110-246, the Food, Conservation and Energy Act of 2008 (FCEA), which amends section 11(e)(8) of the Food and Nutrition Act of 2008 (the Act), 7 U.S.C 2020(e)(8). The revision amended SNAP regulations at § 272.1(c), to make clear that SNAP applicant or recipient information may be used for certifying children for free school meals based on their family's eligibility for SNAP benefits.

Direct certification of SNAP children for the free school breakfast and lunch programs went into effect July 2006 for large school districts and by July 2008 for all school districts. Accordingly, the revision to § 272.1(c) did not change policy, so new State action was not required. USDA also concluded that because implementation of section 4120 was nondiscretionary and specific, and because the rulemaking would not require any changes on the part of State agencies in how they protect information provided by SNAP applicants, it was unnecessary to issue the rule as a proposed rule. The comment period ended on July 16, 2011.

No comments were submitted during the comment period. For reasons given in the interim rule, the Department is adopting the interim rule as a final rule without change.

List of Subjects in 7 CFR Part 272

Alaska, Civil rights, Claims, SNAP, Grant programs-social programs, Reporting and recordkeeping requirements, Unemployment compensation, Wages.

PART 272—REQUIREMENTS FOR PARTICIPATING STATE AGENCIES

Accordingly, the Department is adopting as a final rule, without change, the interim rule that amended 7 CFR part 272 and was published at 76 FR 28165 on May 16, 2011.

Dated: July 22, 2013.
Audrey Rowe,
Administrator, Food and Nutrition Service.

[FR Doc. 2013-18597 Filed 8-1-13; 8:45 am]

BILLING CODE 3410-30-P